DEPARTMENT OF COMMERCE

National Institute of Standards and Technology

Work Group on Measuring Systems for Taxis

AGENCY: National Institute of Standards and Technology, Commerce.

ACTION: Notice.

SUMMARY: The National Institute of Standards and Technology (NIST) is forming a Work Group (WG) to develop proposals to revise the current Taximeters Code in NIST Handbook 44 (HB 44), Specifications, Tolerances, and Other Technical Requirements for Weighing and Measuring Devices, to adequately address emerging technologies used to assess charges based on time and/or distance measurements in taxi applications and to ensure that the prescribed methodologies and standards facilitate measurements that are traceable to the International System of Units (SI).

DATES: A preliminary web-based meeting or teleconference will be held on Wednesday, May 23, 2012, from 1:30 p.m. to 3:30 p.m. Eastern time. This meeting is intended to be a precursor to any subsequent face-to-face meeting and will serve to provide further information and orientation regarding the objectives of the WG. To register for this preliminary meeting, please submit your full name, email address, and phone number to Mr. John Barton by April 30, 2012, using the contact information provided below.

ADDRESSES: The preliminary meeting will be held using either a teleconference or a web-based format where participants will join the meeting remotely by telephone and/or computer. Once registered, participants will receive login and/or call-in instructions via email.

FOR FURTHER INFORMATION CONTACT: Mr. John Barton, NIST, Office of Weights and Measures, 100 Bureau Drive, Stop 2600, Gaithersburg, MD 20899-2600. You may also contact Mr. Barton by telephone (301) 975-4002 or by email at john.barton@nist.gov.

SUPPLEMENTARY INFORMATION: The formation of this WG is intended to bring together government officials and representatives of business, industry, trade associations, and consumer organizations on the subject of standards and test procedures used in the testing of commercial measuring devices and systems by regulatory officials and service companies. NIST participates to promote uniformity among the states in laws, regulations, methods, and testing equipment that comprises the regulatory control of commercial weighing and measuring devices and systems and other trade and commerce issues.

The WG will review existing requirements and test procedures currently referenced in HB 44 Section 5.54., Taximeters Code, and propose changes as needed. They will also identify gaps between the Code and technologies currently in use in taxi applications. Additionally, the WG will identify and develop proposed modifications to HB 44 regarding inspection procedures used by regulatory weights and measures officials. These changes will be presented as proposals through the National Conference on Weights and Measures (NCWM).

Included among the topics to be discussed by the WG for current and emerging device technologies used in commercial distance measuring systems are: Metrology laboratory standards and test procedures, uncertainties, measurement traceability, tolerances and other technical requirements for commercial measuring systems, existing standards for testing equipment, field implementation, data analysis, field test and type evaluation procedures, field enforcement issues, training at all levels, and other relevant issues identified by the WG. WG recommendations may result in the revision of current standards or the development of new standards for testing equipment, including documents such as the NIST Handbook 105 Series for field standards; NIST HB 44, Specifications, Tolerances, and Technical Requirements for Weighing and Measuring Devices; NIST Examination Procedure Outlines; and NIST Handbook 137, Examination of Distance Measuring Devices, as well as proposed changes to requirements and testing procedures for commercial devices and systems used to assess charges to consumers based on time and/or distance measurements.

Dated: March 30, 2012.
Willie E. May,
Associate Director for Laboratory Programs.

[FR Doc. 2012-8365 Filed 4-5-12; 8:45 am]

BILLING CODE 3510-13-P